PENSION BENEFIT GUARANTY CORPORATION

29 CFR Part 4044

Allocation of Assets in Single-Employer Plans; Interest Assumptions for Valuing Benefits

In rule document 2025-05531 beginning on page 14577 in the issue of Thursday, April 3, 2025, make the following correction:

On page 14577, in the second column, under the SUPPLEMENTARY INFORMATION heading, in the fourth line, “assumption” should read “assumptions”.

[FR Doc. C1-2025-05531 Filed 4-8-25; 8:45 am]

BILLING CODE 1505-01-D